DEPARTMENT OF THE INTERIOR

U.S. Geological Survey

Agency Information Collection Activities: Comment Request

AGENCY: U.S. Geological Survey (USGS), Interior.

ACTION: Notice of new information collection.

SUMMARY: To comply with the Paperwork Reduction Act of 1995 (PRA), we are notifying the public that we will submit to OMB a new information collection request (ICR) for review and approval. This notice provides the public an opportunity to comment on the paperwork requirements for the National Geological and Geophysical Data Preservation Program (NGGDPP) under Section 351 of the Energy Policy Act of 2005. To submit a proposal to the NGGDPP, a project narrative must be completed and submitted via Grants.gov. Furthermore, a final technical report for all projects is required at the end of the project period. Narrative and report guidance is available through http://datapreservation.usgs.gov/ and at http://www.Grants.gov.

DATES: Submit written comments by November 14, 2008.

ADDRESSES: Please submit comments on this information collection directly to the Office of Management and Budget (OMB) Office of Information and Regulatory Affairs, Attention: Desk Officer for the Department of Interior via e-mail [OIRA_DOCKET@omb.eop.gov]; or fax (202) 395-6566; and identify your submission as 1028-NEW. Please also submit a copy of your comments to Phadrea Ponds, U.S.G.S. Information Collections Clearance Officer, 2150-C Center Avenue, Fort Collins, CO 80525 (mail); (970) 226-9230 (fax); or pponds@usgs.gov (e-mail). Please reference “Information Collection 1028-NEW, NGGDPP” in the subject line.

FOR FURTHER INFORMATION CONTACT: Tamara L. Dickinson at (703) 648-6603 or Frances W. Pierce at (703) 648-6636.

SUPPLEMENTARY INFORMATION: Title: National Geological and Geophysical Data Preservation Program (NGGDPP).

OMB Control Number: 1028-NEW.

Abstract: Section 351 of the Energy Policy Act of 2005 directs the Secretary of the Interior, through the Director of the U.S. Geological Survey, as follows, “The Secretary shall carry out a National Geological and Geophysical Data Preservation Program in accordance with this section—

(1) To archive geologic, geophysical, and engineering data, maps, well logs, and samples;

(2) To provide a national catalog of such archival material; and

(3) To provide technical and financial assistance related to the archival material.”

The Plan outlines program goals and recommends implementation strategies. An action item in the plan is to “begin interactions with State geological surveys and other DOI agencies that maintain geological and geophysical data and samples to address their preservation and data rescue needs.” In response, the USGS is requesting each state that elects to participate in the program to:

(1) Inventory their current collections and data preservation needs to provide a snapshot of the diversity of scientific collections held, supported, or used by state geological surveys. This inventory of current collections will form the foundation of the National Catalog;

(2) Build the National Catalog by providing site-specific metadata for items in inventoried collections. Focus on site-specific sample data allows broad national coverage with content useful to a wide variety of users. The types of sites cataloged will be determined by the holdings of participating States; and

(3) In FY 2010 and beyond, depending on appropriations, states would be invited to propose projects that address other priorities identified in the Implementation Plan for the National Geological and Geophysical Data Preservation Program, including: (a) Digital infrastructure; (b) Outreach; and (c) Special data rescue needs.

Furthermore, annual data preservation priorities are provided in the Program Announcement as guidance for applicants to consider when submitting proposals. Annual priorities are determined by the USGS NGGDPP Catalog and Financial and Technical Assistance Committees comprising representatives from state geological surveys, industry, academia, and DOI. Since its inception in 2007, NGGDPP has awarded, and 35 states have matched, over $610,000 in grant funds. This notice concerns the collection of information that is sufficient and relevant to evaluate and select proposals for funding. We will protect information from respondents considered proprietary under the Freedom of Information Act (5 U.S.C. 552) and implementing regulations (43 CFR Part 2), and under regulations at 30 CFR 250.197, “Data and information to be made available to the public or for limited inspection.” Responses are voluntary. No questions of a “sensitive” nature are asked. We intend to release the project abstracts and primary investigators for awarded/funded projects only.

Frequency: Annually.

Estimated Annual Number and Description of Respondents: Approximately 49 State Geological Surveys will have the opportunity to apply for matching Federal funds.

Respondent Obligation: Voluntary (necessary to receive benefits).

Estimated Total Number of Annual Responses: 34.

Estimated Annual Burden Hours: 1,224 hours.

Estimated Annual Reporting and Recordkeeping “Hour” Burden: We estimate the public reporting burden averages 36 hours per response. This includes time (1) to write and review the proposal and submit it through Grants.gov, and (2) prepare and submit the final technical report.

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq.) requires each agency “ * * * to provide notice * * * and otherwise consult with members of the public and affected agencies concerning each proposed collection of information * * * ” Agencies must specifically solicit comments. We invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

USGS Information Collection Clearance Officer: Phadrea D. Ponds, 970-226-9445.

Dated: September 8, 2008.
Victor Labson,
Acting Associate Director for Geology.

[FR Doc. E8-21427 Filed 9-12-08; 8:45 am]

BILLING CODE 4311-AM-P